DEPARTMENT OF THE INTERIOR

Office of the Secretary

[201D0102DM/DS64600000/DLSN00000.000000/DX.64601]

Notice of Senior Executive Service Performance Review Board Appointments

AGENCY: Office of the Secretary, Interior.

ACTION: Notice of appointments.

SUMMARY: This notice provides the names of individuals who are eligible to be appointed to serve on the Department of the Interior Senior Executive Service (SES) Performance Review Board.

DATES: These appointments take effect upon publication in the Federal Register.

FOR FURTHER INFORMATION CONTACT: To request additional information about this notice, contact Raymond Limon, Deputy Assistant Secretary—Human Capital and Diversity/Chief Human Capital Officer, by email at Raymond_Limon@ios.doi.gov, or by telephone at (202) 208-3100.

SUPPLEMENTARY INFORMATION: The individuals who are eligible to be appointed to serve on the Department of the Interior SES Performance Review Board are as follows:

Ackerman, Jennifer A.

Addington, Charles E.

Anderson, James G.

Anderton, James B.

Angelle, Scott A.

Applegate, James D.R.

Arroyo, Bryan

Austin, Stanley J.

Bathrick, Mark L.

Beall, James W.

Bearpaw, George Watie

Bearquiver, Kevin T.

Benedetto, Kathleen M.F.

Benge, Shawn T.

Berry, David A.

Black, Michael S.

Blackhair, Johnna M.

Blanchard, Mary Josie

Bockmier, John M.

Bowker, Bryan L.

Bowron, Jessica L.

Brandon, Andrea L.

Branum, Lisa A.

Brown, Carter L.

Brown, Laura B.

Brown, Vicki A.

Brown, William Y.

Buckner, Shawn M.

Budd-Falen, Karen Jean

Cameron, Scott J.

Cantor, Howard M.

Cardinale, Richard T.

Carlson, Jeffrey O.

Cash, Cassius M.

Cason, James E.

Celata, Michael A.

Clayborne, Alfred L.

Cline, Donald Walter

Compton, Jeffrey S.

Conant, Ernest A.

Connell, Jamie E.

Cordova-Harrison, Elizabeth

Costello, Matthew J.

Craff, Robert C.

Cribley, Bud C.

Cruickshank, Walter D.

Cruz, Mark A.

Danko, Carol Lynn

Davis, Kimbra G.

De La Vega, Scott Anthony

Dearman, Tony L.

Devaris, Aimee Marie

Donnelly, John F.

Douglas, Nicholas E.

Downs, Bruce M.

Dumontier, Debra L.

Dutschke, Amy L.

Eggers, Barbara L.

Erdos, Lanny E.

Esplin, Brent C.

Everson, Margaret Emma

Flanagan, Denise A.

Ford, Jerome E.

Frazer, Gary D.

Freeman, Michael T.

Freeman, Sharee M.

Freihage, Jason E.

Frost, Herbert C.

Fulp, Terrance J.

Gallagher, Kevin T.

Gelber, Adam R.

Gibson, Paul Raymond

Gidner, Jerold L.

Glomb, Stephen J.

Goessling, Shannon Lee

Goklany, Indur M.

Gonzales-Schreiner, Roseann

Goodro, Margaret Loretta

Gordon, Robert E. Jr.

Gould, Gregory J.

Grace, Edward J.

Gray, Lorri J.

Guertin, Stephen D.

Hagenauer, Shelby L.

Hambleton, Ryan M.

Hamley, Jeffrey L.

Hammond, Casey B.

Hanna, Jeanette D.

Hart, Paula L.

Hawbecker, Karen S.

Herbst, Lars T.

Hildebrandt, Betsy J.

Hill, Jason Alan

Hoskins, David William

James, James D. Jr.

Johnson, Tonya R.

Jones, Jacqueline M.

Jorgenson, Sarah T.

Jorjani, Daniel H.

Joss, Laura.

Keable, Edward T.

Kendall, James J. Jr.

Kindred, Joshua Michael

Kinsinger, Anne E.

Knight, Karen A.

La Counte, Darryl D. Ii

Laird, Joshua Radbill

Lapointe, Timothy L.

Lawkowski, Gary Michael

Limon, Raymond A.

Lockwood-Shabat, Eugene N.

Lodge, Cynthia Louise

Lords, Douglas A.

Loria, Christopher Joseph

Luebke, Thomas A.

Lueders, Amy L.

Mabry, Scott L.

Macgregor, Katharine S.

Maclean, Robert D.

Martinez, Cynthia T.

Mashburn, Lori K.

Mattingly, Patricia L.

May, Rick A.

Maytubby, Bruce W.

McCulloch, Katherine M.

McDowall, Lena E.

McKeown, Matthew J.

Mehlhoff, John J.

Mercier, Bryan K.

Middleton, Brandon Murray

Mikkelsen, Alan Wayne

Miranda-Castro, Leopoldo

Morris, Douglas W.

Moss, Adrianne L.

Mouritsen, Karen E.

Myers, Richard G.

Neal, Kerry K.

Nedd, Michael D.

Nguyen, Nhien Tony

Noble, Michaela E.

Olsen, Megan C.

Oneill, Keith James

Orr, L. Renee

Ortiz, Hankie P.

Owens, Glenda Hudson

Padgett, Chad B.

Palumbo, David M.

Payne, Grayford F.

Peltola, Eugene R. Jr.

Pendley, William Perry

Peterson, Penny Lynn

Pfeiffer, Tamarah

Pierre-Louis, Alesia J.

Pinto, Sharon Ann

Poitra, Tammie J.

Prandoni, Christopher D.

Pula, Nikolao Iuli

Quinlan, Martin J.

Raby, Jon K.

Ramos, Pedro M.

Rauch, Paul A.

Reinbold, Jeffrey P.

Relat, Hubbel Robert

Renkes, Gregg D.

Reynolds, Michael T.

Reynolds, Thomas G.

Rideout, Sterling J. Jr.

Riggs, Helen

Roberson, Edwin L.

Rojewski, Cole J.

Romanik, Peg A.

Ross, John W.

Ruhs, John F.

Rupert, Jeffery R.

Rusten, Michael W.

Ryker, Sarah J.

Salotti, Christopher P.

Sauvajot, Raymond Marc

Scherer, Kyle E.

Schock, James H.

Shepard, Eric N.

Sholly, Cameron H.

Shope, Thomas D.

Shuler, Gary A.

Siekaniec, Gregory Eugene

Simmons, Shayla F.

Singer, Michele F.

Skipwith, Aurelia

Small, Jeffrey D.

Smiley, Karla J.

Smith, Marc Alan

Smith, Paul Daniel

Sogge, Mark K.

Souza, Paul

Spector, Rachel

Spisak, Timothy R.

Stevens, Bartholomew S.

Steward, James D.

Streater, Eddie R.

Suazo, Raymond

Sullins, Tony A.

Tahsuda, John Iii

Tanner, John R.

Thorson, Robyn

Todd, Raymond K.

Travnicek, Andrea J.

Triebsch, George F.

Tucker, Kaprice Lynch

Tupper, Michael H.

Vajda, William E.

Vela, Raymond David

Velasco, Janine M.

Vietzke, Gay E.

Vogel, Robert A.

Wainman, Barbara W.

Walsh, Noreen E.

Wayson, Thomas C.

Weaver, Kiel P.

Weber, Wendi

Welch, Ruth L.

Wenger, Lance C.

Werkheiser, William H.

Weyers, Holly S.

White, John Ethan

White-Dunston, Erica D.

Willens, Todd D.

Williams, LC

Williams, Margaret C.

Wolf, Robert W.

Woody, William C.

Wooley, Charles M.

Woronka, Theodore

Younger, Cally A.

Zerzan, Gregory Peter

Authority: Title 5, U.S. Code 4314.

Raymond Limon,
Deputy Assistant Secretary—Human Capital and Diversity, Chief Human Capital Officer.

[FR Doc. 2019-25925 Filed 11-27-19; 8:45 am]

BILLING CODE 4334-63-P